DEPARTMENT OF COMMERCE

International Trade Administration

Information on Articles for Physically or Mentally Handicapped Persons Imported Free of Duty

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before July 30, 2001.

ADDRESSES: Direct all written comments to Madeleine Clayton, Departmental Paperwork Clearance Officer, (202) 482-3129, Email Mclayton@doc.gov., Department of Commerce, Room 6086, 14th & Constitution Avenue, NW., Washington, DC 20230.

FOR FURTHER INFORMATION CONTACT: Request for additional information or copies of the information collection instrument and instructions should be directed to: Faye Robinson, Statutory Import Programs Staff, Room 4211, U.S. Department of Commerce, Washington, DC 20230; Phone number: (202) 482-3526, and fax number: (202) 482-0949.

SUPPLEMENTARY INFORMATION:

I. Abstract

Congress, when it enacted legislation to implement the Nairobi Protocol to the Florence Agreement, included a provision for the Departments of Commerce and Treasury to collect information on the import of articles for the handicapped. Form ITA-362P, Information on Articles for Physically or Mentally Handicapped Persons Imported Free of Duty, is the vehicle by which statistical information is obtained to assess whether the duty-free treatment of articles for the handicapped has had a significant adverse impact on a domestic industry (or portion thereof) manufacturing or producing a like or directly competitive article. Without the collection of data, it would be almost impossible for a sound determination to be made and for the President to appropriately redress the situation.

II. Method of Collection

The Department of Commerce and the U.S. Customs Service have copies of Form ITA-362P and distributes the form to importers and brokers upon request. Also, Form ITA-362P may be printed from the Statutory Import Programs Staff portion of the Department of Commerce website at www.ita.doc.gov/IAFrameset.html. The importer or its broker normally completes the form, which is included in the Customs entry package. Forms are then forwarded by Customs officials or brokers to the Department of Commerce, which keeps the statistical records.

III. Data

OMB Number: 0625-0118.

Form Number: ITA-362P.

Type of Review: Revision-Regular Submission.

Affected Public: Commercial, non-commercial, and individual importers of articles for the handicapped who wish to receive duty-free entry into the U.S.

Estimated Number of Respondents: 380.

Estimated Time Per Response: 4 minutes.

Estimated Total Annual Burden Hours: 304 hours.

Estimated Total Annual Costs: The estimated annual cost for this collection is $14,240.00 ($3,040.00 for respondents and $11,200.00 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: May 24, 2001.
Madeleine Clayton,
Departmental Paperwork Clearance Officer, Office of the Chief Information Officer.

[FR Doc. 01-13523 Filed 5-29-01; 8:45 am]

BILLING CODE 3510-DS-P